ENVIRONMENTAL PROTECTION AGENCY

[FRL-9264-5]

Science Advisory Board Staff Office; Notification of a Public Meeting of the Science Advisory Board Panel for the Review of EPA's Hydraulic Fracturing Study Plan

AGENCY: Environmental Protection Agency (EPA).

ACTION: Notice.

SUMMARY: The Environmental Protection Agency (EPA or Agency) Science Advisory Board (SAB) Staff Office announces a public face-to-face meeting of the SAB Panel to conduct an independent review of EPA's Draft Hydraulic Fracturing Study Plan.

DATES: The meeting will be held on March 7, 2011 from 9 a.m. to 5 p.m., and March 8, 2011 from 8 a.m. to 5 p.m. (Eastern Time).

ADDRESSES: The Panel meeting will be held at the Westin Alexandria Hotel located at 400 Courthouse Square, Alexandria, VA 22314.

FOR FURTHER INFORMATION CONTACT: Any member of the public wishing further information regarding this meeting may contact Mr. Edward Hanlon, Designated Federal Officer (DFO), SAB Staff Office, by telephone/voice mail at (202) 564-2134; by fax at (202) 565-2098 or via e-mail at hanlon.edward@epa.gov. General information concerning the EPA Science Advisory Board can be found at the EPA SAB Web site at http://www.epa.gov/sab. Any inquiry regarding EPA's Draft Hydraulic Fracturing Study Plan should be directed to Susan Burden, EPA Office of Research and Development (ORD), at burden.susan@epa.gov or (202) 564-6308. Media inquiries regarding EPA's Draft Hydraulic Fracturing Study Plan should be directed to Ms. Amy Dewey, EPA Office of Public Affairs (OPA), at dewey.amy@epa.gov or (202) 564-7816.

SUPPLEMENTARY INFORMATION:

Background: The SAB was established pursuant to the Environmental Research, Development, and Demonstration Authorization Act (ERDAA), codified at 42 U.S.C. 4365 to provide independent scientific and technical advice to the Administrator on the technical basis for Agency positions and regulations. The SAB is a Federal Advisory Committee chartered under the Federal Advisory Committee Act (FACA), 5 U.S.C., App. 2. Pursuant to FACA and EPA policy, notice is hereby given that an ad hoc SAB Panel will hold a public meeting to review EPA's Draft Hydraulic Fracturing Study Plan. The SAB will comply with the provisions of FACA and all appropriate SAB Staff Office procedural policies.

The EPA Draft Study Plan develops research questions and identifies research needs, and proposes an approach to: (1) Gather existing data and information, including input from stakeholders; (2) catalog potential impacts of hydraulic fracturing on drinking water resources; and (3) identify data gaps. EPA is seeking SAB review and comment regarding the Draft Study Plan. The SAB Staff Office previously announced that it was forming an SAB ad hoc Panel to provide independent expert advice on EPA's Draft Hydraulic Fracturing Study Plan (75 FR 42087-42088, July 20, 2010). The purpose of the March 7-8, 2011, meeting is for the Panel to discuss their review comments on EPA's Draft Study Plan.

Availability of Meeting Materials: The agenda and the EPA Draft Study Plan will be available on the SAB Web site at http://www.epa.gov/sab in advance of the meeting.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. They should send their comments directly to the Designated Federal Officer for the relevant advisory committee. Oral Statements: In general, individuals or groups requesting an oral presentation at this public meeting will be limited to five minutes per speaker. Interested parties should contact Mr. Edward Hanlon, DFO, in writing (preferably via e-mail), at the contact information noted above, by February 28, 2011 to be placed on the list of public speakers for the meeting. Written Statements: Written statements should be received in the SAB Staff Office by February 28, 2011 so that the information may be made available to the SAB Hydraulic Fracturing Study Plan Review Panel for their consideration. Written statements should be supplied to the DFO in the following formats: one hard copy with original signature and one electronic copy via e-mail (acceptable file format: Adobe Acrobat PDF, WordPerfect, MS Word, MS PowerPoint, or Rich Text files in IBM-PC/Windows 98/2000/XP format). Submitters are requested to provide two versions of each document submitted: One each with and without signatures, because the SAB Staff Office does not publish documents with signatures on its Web sites.

Accessibility: For information on access or services for individuals with disabilities, please contact Mr. Edward Hanlon at the phone number or e-mail address noted above, preferably at least ten days prior to the meeting, to give EPA as much time as possible to process your request.

Dated: February 3, 2011.
Anthony F. Maciorowski,
Deputy Director, EPA Science Advisory Board Staff Office.

[FR Doc. 2011-2873 Filed 2-8-11; 8:45 am]

BILLING CODE 6560-50-P